DEPARTMENT OF LABOR

Occupational Safety and Health Administration

29 CFR Part 1904

[Docket No. OSHA-2010-0024]

Modernization of OSHA's Injury and Illness Data Collection Process

AGENCY: Occupational Safety and Health Administration (OSHA), Labor

ACTION: Stakeholder meetings and request for public comment.

SUMMARY: OSHA invites interested parties to participate in informal stakeholder meetings on the modernization of OSHA's injury and illness data collection system. OSHA encourages stakeholders who cannot participate to submit written comments. OSHA needs to gather information from stakeholders in order to be able to modify its current injury and illness recordkeeping regulation and develop a modernized recordkeeping system in ways that will help OSHA, employers, employees, researchers, and the public prevent workplace injuries and illnesses as well as, supporting President Obama's Open Government Initiative, increase the ability of the public to easily find, download, and use the resulting dataset generated and held by the Federal Government. The informal discussions at the stakeholder meetings and the written comments from stakeholders will help give OSHA this information.

DATES: The meeting dates are:

• May 25, 2010, 8:30 a.m. to 4:30 p.m., Washington, DC.

• June 3, 2010, 8:30 a.m. to 4:30 p.m., Chicago, IL.

Written comments must be submitted (postmarked, sent, or received) by June 18, 2010.

ADDRESSES:

I. Registration

Submit your notice of intent to participate in one of the scheduled meetings by one of the following:

• Electronic. Register at: https://www2.ergweb.com/projects/conferences/osha/register-datacollection.htm (follow the instructions online).

• Facsimile. Fax your request to: 781-674-2906 and label it “Attention: OSHA Data Collection Process Stakeholder Meeting Registration.”

• Regular mail, express delivery, hand (courier) delivery, and messenger service. Send your request to: Eastern Research Group, Inc., 110 Hartwell Avenue, Lexington, MA 02421; Attention OSHA Data Collection Process Stakeholder Meeting Registration.

II. Meetings

In Washington, DC, the meeting will be held on May 25, 2010, from 8:30 a.m. to 4:30 p.m., at the U.S. Department of Labor, Frances Perkins Building, 200 Constitution Avenue, NW., Washington, DC 20210.

In Chicago, Illinois, the meeting will be held on June 3, 2010, from 8:30 a.m. to 4:30 p.m., at the OSHA Training Institute, 2020 South Arlington Heights Rd., Arlington Heights, IL 60005.

III. Public Comment

You may submit comments, identified by Docket No. OSHA-2010-0024, by any one of the following methods:

• Electronically: You may submit comments and attachments electronically at http://www.regulations.gov, the Federal eRulemaking Portal. Follow the instructions on-line for making electronic submissions.

• Fax: If your comments, including attachments, do not exceed 10 pages, you may fax them to the OSHA Docket Office at (202) 693-1648.

• Mail, hand delivery, express mail, messenger or courier service: You must submit three copies of your comments and attachments to the OSHA Docket Office, Docket No. OSHA-2010-0024, U.S. Department of Labor, Room N-2625, 200 Constitution Avenue, NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All submissions must include the docket number (Docket No. OSHA-2010-0024). Because of security-related procedures, submission by regular mail may result in significant delay. Please contact the OSHA Docket Office about security procedures for hand delivery, express delivery, messenger or courier.

All comments, including any personal information you provide, are placed in the public docket without change and may be made available on http://www.regulations.gov. Therefore, OSHA cautions you about submitting personal information such as Social Security numbers and birthdates.

Docket: To read or download submissions in response to the request for public comment, go to Docket No. OSHA-2010-0024 at: http://www.regulations.gov. All submissions are listed in the http://www.regulations.gov index. However, some information (e.g., copyrighted material) is not publicly available to read or download through that Web page. All submissions, including copyrighted material, are available for inspection and copying at the OSHA Docket Office.

FOR FURTHER INFORMATION CONTACT: Information is available from the following sources:

• Press inquiries. Jennifer Ashley, Director, OSHA Office of Communications, Room N-3647, U.S. Department of Labor, 200 Constitution Avenue, NW., Washington, DC 20210; telephone: (202) 693-1999.

• General and technical information. Miriam Schoenbaum, OSHA Directorate of Evaluation and Analysis, Room N-3648, U.S. Department of Labor, 200 Constitution Avenue, NW., Washington, DC 20210, telephone (202) 693-1841, electronic mail (e-mail) Schoenbaum.Miriam@dol.gov.

• Copies of this Federal Register notice. Electronic copies are available at http://www.regulations.gov. This Federal Register notice, as well as news releases and other relevant information, also are available on the OSHA Web page at http://www.osha.gov.

SUPPLEMENTARY INFORMATION:

I. Background

In 1970, Congress enacted the Occupational Safety and Health Act (29 U.S.C. 651 et seq.) (the Act or the OSH Act). Congress directed the Secretary through section 8(c)(2) of the OSH Act to “* * * prescribe regulations requiring employers to maintain accurate records of, and to make periodic reports on, work-related deaths, injuries and illnesses other than minor injuries requiring only first aid treatment and which do not involve medical treatment, loss of consciousness, restriction of work or motion, or transfer to another job * * *” Section 24(a) of the Act requires the Secretary to develop and maintain an effective program of collection, compilation, and analysis of occupational safety and health statistics. This section directs the Secretary to “compile accurate statistics on work injuries and illnesses which shall include all disabling, serious, or significant injuries and illnesses, whether or not involving loss of time from work, other than minor injuries requiring only first aid treatment and which do not involve medical treatment, loss of consciousness, restriction of work or motion, or transfer to another job.”

29 CFR part 1904, Recording and Reporting Occupational Injuries and Illnesses, was one of the first regulations promulgated by OSHA. First issued in 1971, this rule requires employers to record information on the occurrence of injuries and illnesses in their workplaces. The employer is obligated to record work-related injuries and illnesses that meet one or more of certain recording criteria. In accordance with the OSH Act, OSHA requires employers to record work-related injuries and illnesses that involve death, loss of consciousness, days away from work, restriction of work or motion, transfer to another job, medical treatment other than first aid, or diagnosis of a significant injury or illness by a physician or other licensed health care professional.

29 CFR part 1904 requires all employers under OSHA jurisdiction with 11 or more employees to keep OSHA injury and illness records, unless the establishment is classified in a specific low-hazard retail, service, finance, insurance or real estate industry. In addition, employers with ten or fewer employees must keep OSHA injury and illness records if OSHA or the Bureau of Labor Statistics informs them in writing that they must keep records under part 1904.41 (Annual OSHA injury and illness survey of ten or more employers) or part 1904.42 (Requests from the Bureau of Labor Statistics for data). The recordkeeping rule currently covers roughly 750,000 employers with roughly 1,500,000 establishments. Every year, for all of the employer's establishments, each of these employers must complete OSHA Form 300A (Summary of Work-Related Injuries and Illnesses). In addition, if there is one or more injury or illness at the establishment, the employer must complete OSHA Form 301 (Injury and Illness Incident Report) for each injury or illness and record each injury or illness on OSHA Form 300 (Log of Work-Related Injuries and Illnesses). OSHA estimates that more than 3,000,000 injuries and illnesses are recorded on these forms each year.

The forms contain a substantial amount of information pertaining to the injured or ill employee and the circumstances surrounding the injury or illness. The following data elements are found on the OSHA Form 300 (Log of Work-Related Injuries and Illnesses) and OSHA Form 301 (Injury and Illness Incident Report): Name, title, phone number of person completing form; Date form completed; Date and time of event; Time employee began work; Employee's name; Employee's job title; Where the event occurred; A brief description of injury or illness, parts of body affected, and object/substance that directly injured or made person ill; Severity of the case (death, days away from work, job transfer or restriction, other recordable cases); Number of days injured or ill worker was away from work or restricted; Full name, address, date of birth, date hired, and gender of employee; Name of physician or other health care professional; Name and address of facility if treatment was given away from the workplace; Emergency room treatment and inpatient hospitalization (if applicable); Detailed descriptions of what the employee was doing just before the incident occurred; how the injury occurred, the injury or illness, and the object or substance that directly harmed the employee; date of death (if applicable).

The records required by this rule are an important source of information for OSHA. During the initial stages of an inspection, an OSHA representative reviews the injury and illness forms maintained by the establishment as an aid to focusing the inspection effort on identified safety and health hazards. OSHA also uses establishment-specific injury and illness information to help target its intervention efforts to the worksites experiencing high rates of injuries and illnesses and to specific safety and health hazards. Injury and illness data help OSHA identify the scope of occupational safety and health problems and decide whether regulatory intervention, compliance assistance, or other measures are warranted. These data are also of great importance to employers and workers in understanding and reducing the incidence of injuries and illnesses in specific workplaces.

Data Collections: Currently, the Department of Labor conducts two annual data collections which gather information entered on the OSHA Forms. The first, conducted by OSHA, is the OSHA Data Initiative (ODI); the second, conducted by the Bureau of Labor Statistics, is the Survey of Occupational Injuries and Illnesses (SOII). While both collections are based on the same source of information, the two differ substantially in the scope and use of the data collected.

The OSHA Data Initiative: In 1995, OSHA established the annual OSHA Data Initiative (ODI) to collect data from approximately 80,000 establishments on injuries and acute illnesses attributable to work-related activities in private-sector industries. 29 CFR part 1904.41 (Annual OSHA injury and illness survey of ten or more employers) provides OSHA the authority to conduct this data collection. The primary purpose of the ODI is to give OSHA the capability of focusing its resources on those establishments with serious safety and health problems. The ODI sample primarily consists of larger establishments (those with 40 or more employees) in industries with historically high rates of occupational injury and illness. Sample selection is designed to ensure that all establishments in the potential data collection universe are surveyed at least once during a three-year cycle. It is not designed to produce estimates of injuries and illnesses for the nation or a particular industry.

Currently, the ODI only collects summary injury and illness data from OSHA Form 300A. From the data collected, the Agency calculates establishment-specific injury and illness rates and uses these rates to target enforcement and compliance assistance activities. Specifically, the data are used to support OSHA's Site-Specific Targeting (SST) enforcement program and its High Rate Letter outreach program. The Agency also makes the individual establishment data available to the public from its website and through Data.gov.

The BLS Survey of Occupational Injuries and Illnesses (SOII): The Bureau of Labor Statistics conducts the SOII, in which employer reports are collected from about 235,000 private-industry establishments. Response to the BLS survey is mandatory, as required by 29 CFR 1904.42 (Requests from the Bureau of Labor Statistics for data).

The survey provides estimates of the number and frequency (incidence rates) of nonfatal workplace injuries and illnesses, based on the OSHA Forms kept by a scientifically-selected probability sample of private-industry employers who were selected to represent the private sector for the Nation and individual industries. Data (through 2008) are classified according to the 2002 North American Industry Classification System (NAICS), the 2000 Standard Occupational Classification (SOC) Manual, and 1997 Standards for Federal Data on Race and Ethnicity, as defined by the Office of Management and Budget (OMB). Race and ethnicity are the only data elements in the survey for which reporting is not mandatory. BLS has generated estimates of injuries and illnesses for many of the 2-, 3-, 4-, 5-, and 6-digit private-sector industries defined in the North American Industry Classification System. The SOII also provides detailed information on the circumstances of cases involving days away from work and the characteristics of the injured or ill workers.

For each incident that led to an injury or illness that required one or more days away from work to recuperate, the survey uses four characteristics to describe the circumstances of the case. These characteristics are classified using the Occupational Injury and Illness Classification System. These four characteristics are:

• Nature—the physical characteristics of the disabling injury or illness, such as cuts/lacerations, fractures, or sprains/strains;

• Part of body affected—the part of body directly linked to the nature of injury or illness cited, such as back, finger, or eye;

• Event or exposure—the manner in which the injury or illness was produced or inflicted, such as falls, overexertion, or repetitive motion; and

• Source—the object, substance, exposure, or bodily motion that directly produced or inflicted the disabling condition, such as chemicals, vehicles, or machinery.

Under the Confidential Information Protection and Statistical Efficiency Act of 2002, BLS is prohibited from releasing establishment-specific data for any purpose other than statistical analysis and therefore does not release establishment data to the general public or OSHA.

II. Issues

One of the priorities of President Obama's Open Government Initiative is to increase the ability of the public to easily find, download, and use datasets generated and held by the Federal Government. OSHA is considering whether the up-to-date, establishment-specific, injury/illness-specific electronic data collected by an improved and modernized OSHA recordkeeping system and made public under the Open Government Initiative would encourage innovative ideas and allow employers, employees, and researchers to participate in improving occupational safety and health.

While both the OSHA and BLS data collection systems provide a vast amount of information, both have limitations that affect OSHA's ability to make decisions based on data.

The ODI currently provides only summary data for each establishment; these data do not allow OSHA to identify specific types of hazards or problems in a given establishment. Further, there is as long as a two- or three-year lag in the current OSHA data collection system between the occurrence of an injury or illness and OSHA's use of the data.

BLS data are available in the year following the calendar year in which the injury or illness occurs and provides a wide range of estimates by industry, establishment size, and details of the injuries and illnesses. These data indicate which types of injury or illness occur in establishments in a particular industry and establishment size; specifics vary from establishment to establishment. BLS data identify, for example, the industries that have reported the highest rate of amputations or musculo-skeletal disorders; they do not identify the specific establishments where such cases actually did occur and are likely to occur in the future.

III. Topics and Questions for Stakeholder Meetings and Public Comments

OSHA would like to gather information about a modernized electronic recordkeeping system from a wide range of interests. Topics include:

• Scope of the data collected

• Uses of the data collected

• Methods of data collection

• Economic impacts

• Additional topics

In addition, OSHA is interested in answers to the following specific questions:

• What recordkeeping data should the electronic recordkeeping system collect?

• Would linking the recordkeeping data with other sources (e.g., medical records, workers' compensation records) increase its usefulness and/or accuracy? If so, which sources? What potential technical and legal hurdles exist in linking to other data sources, and how might these be overcome?

• Should the electronic recordkeeping system collect data from every employer under OSHA jurisdiction for every case, or should it be limited to a subset of employers and/or cases, for example based on size, industry, incidence rate, occupation, or case severity?

• What purposes could the collected recordkeeping data serve for OSHA as well as other users?

• How could the collected data be used to make national or sector-specific estimates of injury and illness?

• What would be the strengths and limitations of the collected data?

• Would publishing data indicating the number of employees and number of employee hours worked at specific establishments disclose confidential commercial or trade secret information?

• How can OSHA use state and other federal agency data collection experience in developing an electronic recordkeeping system?

• How should OSHA design an effective quality assurance program for data entered into the electronic recordkeeping system?

• Should data be collected on a flow basis or periodically, e.g., quarterly? What are the advantages and disadvantages of each approach to data collection?

• What would be the benefits and disadvantages of implementing a new electronic recordkeeping system incrementally, e.g., starting with the largest employers or the most severe injuries?

• What training and outreach will be necessary for employers to comply with the requirements of the electronic recordkeeping system?

• How can OSHA ensure that small-business employers are able to comply with the requirements of the electronic recordkeeping system?

• What analytical tools could be developed and provided to employers to increase their ability to effectively use the injury and illness data?

• How can OSHA improve the accuracy of recordkeeping data by encouraging reporting and recording of work-related injuries and illnesses and discouraging underreporting and underrecording of work-related injuries and illnesses?

IV. Public Participation

Stakeholder Meetings

At the stakeholder meetings, OSHA will gather information about a modernized electronic recordkeeping system from a wide range of interests. The meetings will be conducted as a group discussion. To encourage group interaction, OSHA will not allow formal presentations. There will be two sessions at each meeting, each accommodating approximately 25 participants and lasting about four hours. Members of the general public who want to observe but not participate in the meetings are welcome on a first-come, first-served basis, as space permits. OSHA staff will be present to take part in the discussions. Logistics for the meetings are managed by Eastern Research Group (ERG), which will provide a facilitator and compile notes summarizing the discussion; these notes will not identify individual speakers. ERG also will make an audio recording of each session to ensure that the summary notes are accurate; these recordings will not be transcribed. The summary notes will be available on OSHA's Web page at http://www.osha.gov.

The meetings are as follows:

• In Washington, DC, the meeting will be held on May 25, 2010, from 8:30 a.m. to 4:30 p.m., at the U.S. Department of Labor, Frances Perkins Building, 200 Constitution Avenue, NW., Washington, DC, 20210.

• In Chicago, Illinois, the meeting will be held on June 3, 2010, from 8:30 a.m. to 4:30 p.m., at the OSHA Training Institute, 2020 South Arlington Heights Rd., Arlington Heights, IL, 60005.

You may submit notice of intent to participate in one of the stakeholder meetings electronically, by facsimile, or by hard copy. See the ADDRESSES section of this notice for the registration Web site, facsimile number, and address. To register electronically, follow the instructions provided on the Web site. To register by mail or facsimile, please indicate the following:

• Name, address, phone, fax, and e-mail.

• First and second preferences of meeting time.

• Organization for which you work.

• Organization you represent (if different).

• Stakeholder category: government, industry, standards-developing organization, research or testing agency, union, trade association, insurance, consultant, or other (if other, please be specific).

• Industry sector (if applicable).

Electronic copies of this Federal Register notice, as well as news releases and other relevant documents, are available on the OSHA Web page at: http://www.osha.gov.

Public Comment

OSHA invites comment on all aspects of the modernization of OSHA's injury and illness data collection system. Interested parties must submit comments by June 18, 2010. The Agency will carefully review and evaluate all comments, information, and data, as well as all other information in the record, to determine how to proceed.

You may submit comments in response to this document (1) electronically at http://www.regulations.gov, which is the Federal eRulemaking Portal; (2) by facsimile (FAX); or (3) by hard copy. All submissions must identify the Agency name and the OSHA docket number (Docket No. OSHA-2010-0024) of this notice. You may supplement electronic submissions by uploading document files electronically. If, instead, you wish to mail additional materials in reference to an electronic or fax submission, you must submit them to the OSHA Docket Office (see ADDRESSES section). The additional materials must clearly identify your electronic comments by name, date, and docket number, so OSHA can attach them to your comments.

Because of security-related procedures, the use of regular mail may cause a significant delay in the receipt of submissions. For information about security procedures concerning the delivery of materials by hand, express delivery, messenger or courier service, please contact the OSHA Docket Office at (202) 693-2350 (TTY (877) 889-5627).

Access to Docket

Comments in response to this Federal Register notice are posted without change at http://www.regulations.gov, the Federal eRulemaking portal. Therefore, OSHA cautions individuals about submitting personal information such as social security numbers and birthdates. Exhibits referenced in this Federal Register document are posted at http://www.regulations.gov. Although submissions are listed in the http://www.regulations.gov indexes, some information (e.g., copyrighted material) is not publicly available to read or download through that Web page. All comments are available for inspection and copying at the OSHA Docket Office. Information on using http://www.regulations.gov to submit comments and access dockets is available on the Web page. Contact the OSHA Docket Office for information about materials not available through the Web page and for assistance in using the Internet to locate docket submissions.

Electronic copies of this Federal Register document are available at: http://www.regulations.gov. This document, as well as news releases and other relevant information, also are available at OSHA's Web page at: http://www.osha.gov.

V. Authority and Signature

This document was prepared under the direction of David Michaels, PhD, MPH, Assistant Secretary of Labor for Occupational Safety and Health, U.S. Department of Labor, pursuant to sections 4, 6, and 8 of the Occupational Safety and Health Act of 1970 (29 U.S.C. 653, 655, 657), 29 CFR part 1911, and Secretary's Order 5-2007 (72 FR 31160).

Signed at Washington, DC, on April 26, 2010.
David Michaels,
Assistant Secretary of Labor for Occupational Safety and Health.

[FR Doc. 2010-10163 Filed 5-4-10; 8:45 am]

BILLING CODE 4510-26-P